DEPARTMENT OF HEALTH AND HUMAN SERVICES

Centers for Disease Control and Prevention

[60-Day-20-0822; Docket No. CDC-2019-0082]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a proposed information collection titled The National Intimate Partner and Sexual Violence Survey (NISVS). CDC will collect information about individual's experiences of sexual violence, stalking and intimate partner violence and information about the health consequences of these forms of violence. CDC produces national and state level prevalence estimates of these types of violence.

DATES: CDC must receive written comments on or before December 9, 2019.

ADDRESSES: You may submit comments, identified by Docket No. CDC-2019-0082 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs

Proposed Project

The National Intimate Partner and Sexual Violence Survey (NISVS) (OMB control No. 0920-0822, Exp. 02/29/2020)—Revision—National Center for Injury Prevention and Control (NCIPC), Centers for Disease Control and Prevention (CDC).

Background and Brief Description

In 2010, the National Intimate Partner and Sexual Violence Surveillance System (NISVSS) reported that approximately 6.9 million women and 5.6 million men experienced rape, physical violence and/or stalking by an intimate partner within the last year. The health care costs associated with this exceed $5.8 billion each year, nearly $3.9 billion of which is for direct medical and mental health care services. In order to address this important public health problem, CDC implemented, beginning in 2010, the National Intimate Partner and Sexual Violence Surveillance System that produces national and state level estimates of Intimate Partner Violence (IPV), Sexual Violence (SV) and stalking on an annual basis.

CDC seeks OMB approval for a three-year period for this revision. In this revision CDC describes the planned testing of a redesign of the National Intimate Partner and Sexual Violence Survey (NISVS) and the approach for collecting NISVS data using multiple data collection modes and sampling strategies. More specifically, this revision is requesting: (1) Conduct feasibility testing to assess alternative design features including the sample frame, mode of response, and incentive structures that help garner participation and help reduce nonresponse. (2) Conduct experiments that inform the development of a protocol for alternative sampling and weighting methods for multi-modal data collection that will result in the ability to calculate accurate and reliable national and state-level estimates of SV, IPV, and stalking. (3) Conduct a pilot data collection to ensure that the selected optimal alternative sampling methods and multi-modal data collection approaches for NISVS are ready for full-scale implementation.

These data will be used only to inform future NISVS data collections. Results from the feasibility phase experiments may be prepared for publication, as the findings related to optimal data collection modes, sampling frames, and incentive structures are likely to be useful to other federal agencies currently conducting national data collections. No national prevalence estimates will be generated from the data collected during the NISVS redesign project. Data are analyzed using appropriate statistical software to account for the complexity of the survey design to compute weighted counts, percentages, and confidence intervals using national-level data. There are no costs to respondents other than their time. The annual estimated burden hours are 1,085.

Estimated Annualized Burden Hours
Type of respondent | Form name | Number of respondents | Total number of responses per respondent | Average burden per response (in hours) | Total burden hours (in hours)
RDD Non-Participating Household (Screened) Phase 2: Experimentation and Feasibility Testing | CATI instrument | 800 | 1 | 3/60 | 40
RDD Eligible Household (Completes Survey. Phase 2: Experimentation and Feasibility Testing | CATI instrument | 667 | 1 | 25/60 | 278
Non-Participating Household (Screened). Phase 2: Experimentation and Feasibility Testing | Web/Paper Screener | 800 | 1 | 3/60 | 40
Web Eligible Household (Completes Survey. Phase 2: Experimentation and Feasibility Testing | Web instrument | 1,000 | 1 | 25/60 | 417
Paper Eligible Household (Completes Survey. Phase 2: Experimentation and Feasibility Testing | Paper instrument | 667 | 1 | 25/60 | 278
RDD Non-Participating Household (Screened) Phase 3: Pilot Testing | CATI instrument | 27 | 1 | 3/60 | 1
RDD Eligible Household (Completes Survey. Phase 3: Pilot Testing | CATI instrument | 22 | 1 | 25/60 | 9
Non-Participating Household (Screened). Phase 3: Pilot Testing | Web/Paper Screener | 53 | 1 | 3/60 | 3
Web Eligible Household (Completes Survey. Phase 3: Pilot Testing | Web instrument | 23 | 1 | 25/60 | 10
Paper Eligible Household (Completes Survey. Phase 3: Pilot Testing | Paper instrument | 22 | 1 | 25/60 | 9
Total |  |  |  |  | 1,085

Jeffrey M. Zirger,
Lead, Information Collection Review Office, Office of Scientific Integrity, Office of Science, Centers for Disease Control and Prevention.

[FR Doc. 2019-22082 Filed 10-8-19; 8:45 am]

BILLING CODE 4163-19-P